DEPARTMENT OF JUSTICE

Notice of Lodging of Consent Decree Under the Clean Air Act

Under 28 CFR 50.7, notice is hereby given that on September 30, 2003, a Consent Decree in United States and New Jersey v. Coastal Eagle Point Oil Co., Civil Action No. 1:03cv04525 (JHR) was lodged with the United States District Court for the District of New Jersey.

In a complaint that was filed simultaneously with the Consent Decree, the United States and New Jersey sought injunctive relief and penalties against Coastal Eagle Point Oil Co. (“CEOPOC”), pursuant to sections 113(b) and 304(a) of the Clear Air Act (“CAA”), 42 U.S.C. 7413(b), 7604(a) (1983), amended by, 42 U.S.C. 7413(b) (Supp. 1991), for alleged CAA and New Jersey Air Pollution Control Act violations at CEPOC's refinery in Westville, New Jersey.

Under the settlement, CEPOC will implement innovative pollution control technologies to reduce emissions of nitrogen oxides, sulfur dioxide, and particulate matter from refinery process units. CEPOC also will adopt facility-wide enhanced benzene waste monitoring and fugitive emission control programs. In addition, CEPOC will pay a civil penalty of $2.5 million for settlement of the claims in the United States' and New Jersey's complaint. Finally, CEPOC will pay $1 million to the Northeast States for Coordinated Air Use Management to be used to eliminate diesel emissions from idling trucks at the Paulsboro Travel Central on Interstate 295 in New Jersey. New Jersey joined in the settlement as a co-plaintiff and co-signatory to the Consent Decree.

The Department of Justice will receive for a period of thirty (30) days from the date of this publication comments relating to the Consent Decree. Comments should be addressed to the Assistant Attorney General, Environment and Natural Resources Division, P.O. Box 7611, U.S. Department of Justice, Washington, DC 20044-7611, and should refer to United States and New Jersey v. Coastal Eagle Point Refining Co., D.J. Ref. No. 90-5-2-1-08096.

The Consent Decree may be examined at the Office of the United States Attorney, 401 Market St., 4th Floor, Camden, NJ 08101, and at U.S. EPA Region 2, 290 Broadway, New York, New York, 10007-1866. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing request to Tonia Fleetwood (tonia.fleetwood@usdoj.gov), fax number (202) 514-0097, phone confirmation number (202) 514-1547. In requesting a copy from the Consent Decree Library, please enclosed a check in the amount of $32.00 (25 Cents per page reproduction cost) payable to the U.S. Treasury.

Robert D. Brook,
Assistant Section Chief, Environmental Enforcement Section, Environment and Natural Resources Division.

[FR Doc. 03-26243 Filed 10-16-03; 8:45 am]

BILLING CODE 4410-15-M